DEPARTMENT OF JUSTICE

Drug Enforcement Administration

[Docket No. DEA-392]

Bulk Manufacturer of Controlled Substances Application: Cayman Chemical Company

ACTION: Notice of application.

DATES: Registered bulk manufacturers of the affected basic classes, and applicants therefore, may file written comments on or objections to the issuance of the proposed registration in accordance with 21 CFR 1301.33(a) on or before April 25, 2016.

ADDRESSES: Written comments should be sent to: Drug Enforcement Administration, Attention: DEA Federal Register Representative/ODW, 8701 Morrissette Drive, Springfield, Virginia 22152.

SUPPLEMENTARY INFORMATION: The Attorney General has delegated her authority under the Controlled Substances Act to the Administrator of the Drug Enforcement Administration (DEA), 28 CFR 0.100(b). Authority to exercise all necessary functions with respect to the promulgation and implementation of 21 CFR part 1301, incident to the registration of manufacturers, distributors, dispensers, importers, and exporters of controlled substances (other than final orders in connection with suspension, denial, or revocation of registration) has been redelegated to the Deputy Assistant Administrator of the DEA Office of Diversion Control (“Deputy Assistant Administrator”) pursuant to section 7 of 28 CFR part 0, appendix to subpart R.

In accordance with 21 CFR 1301.33(a), this is notice that on August 24, 2015, Cayman Chemical Company, 1180 East Ellsworth Road, Ann Arbor, Michigan 48108 applied to be registered as a bulk manufacturer of the following basic classes of controlled substances:

Controlled substance | Schedule
3-Fluoro-N-methylcathinone (3-FMC) (1233) | I
Cathinone (1235) | I
Methcathinone (1237) | I
4-Fluoro-N-methylcathinone (4-FMC) (1238) | I
Pentedrone (α-methylaminovalerophenone) (1246) | I
Mephedrone (4-Methyl-N-methylcathinone) (1248) | I
4-Methyl-N-ethylcathinone (4-MEC) (1249) | I
Naphyrone (1258) | I
N-Ethylamphetamine (1475) | I
N,N-Dimethylamphetamine (1480) | I
Aminorex (1585) | I
4-Methylaminorex (cis isomer) (1590) | I
Gamma Hydroxybutyric Acid (2010) | I
Methaqualone (2565) | I
Mecloqualone (2572) | I
JWH-250 (1-Pentyl-3-(2-methoxyphenylacetyl)indole) (6250) | I
SR-18 (Also known as RCS-8) (1-Cyclohexylethyl-3-(2-methoxyphenylacetyl)indole) (7008) | I
5-Flouro-UR-144 and XLR11 [1-(5-Fluoro-pentyl)1H-indol-3-yl](2,2,3,3-tetramethylcyclopropyl)methanone (7011) | I
AB-FUBINACA (N-(1-amino-3-methyl-1-oxobutan-2-yl)-1-(4-fluorobenzyl)-1H-indazole-3-carboxamide) (7012) | I
JWH-019 (1-Hexyl-3-(1-naphthoyl)indole) (7019) | I
AB-PINACA (N-(1-amino-3-methyl-1-oxobutan-2-yl)-1-pentyl-1H-indazole-3-carboxamide) (7023) | I
THJ-2201 [1-(5-fluoropentyl)-1H-indazol-3-yl](naphthalen-1-yl)methanone (7024) | I
AB-CHMINACA (N-(1-amino-3-methyl-1-oxobutan-2-yl)-1-(cyclohexylmethyl)-1H-indazole-3-carboxamide (7031) | I
ADB-PINACA (N-(1-amino-3,3-dimethyl-1-oxobutan-2-yl)-1-pentyl-1H-indazole-3-carboxamide) (7035) | I
APINACA and AKB48 N-(1-Adamantyl)-1-pentyl-1H-indazole-3-carboxamide (7048) | I
JWH-081 (1-Pentyl-3-(1-(4-methoxynaphthoyl)indole) (7081) | I
SR-19 (Also known as RCS-4) (1-Pentyl-3-[(4-methoxy)-benzoyl]indole (7104) | I
JWH-018 (also known as AM678) (1-Pentyl-3-(1-naphthoyl)indole) (7118) | I
JWH-122 (1-Pentyl-3-(4-methyl-1-naphthoyl)indole) (7122) | I
UR-144 (1-Pentyl-1H-indol-3-yl)(2,2,3,3-tetramethylcyclopropyl)methanone (7144) | I
JWH-073 (1-Butyl-3-(1-naphthoyl)indole) (7173) | I
JWH-200 (1-[2-(4-Morpholinyl)ethyl]-3-(1-naphthoyl)indole) (7200) | I
AM-2201 (1-(5-Fluoropentyl)-3-(1-naphthoyl)indole) (7201) | I
JWH-203 (1-Pentyl-3-(2-chlorophenylacetyl)indole) (7203) | I
PB-22 (Quinolin-8-yl 1-pentyl-1H-indole-3-carboxylate) (7222) | I
5F-PB-22 (Quinolin-8-yl 1-(5-fluoropentyl)-1H-indole-3-carboxylate) (7225) | I
Alpha-ethyltryptamine (7249) | I
CP-47,497 (5-(1,1-Dimethylheptyl)-2-[(1R,3S)-3-hydroxycyclohexyl-phenol) (7297) | I
CP-47,497 C8 Homologue (5-(1,1-Dimethyloctyl)-2-[(1R,3S)3-hydroxycyclohexyl-phenol) (7298) | I
Lysergic acid diethylamide (7315) | I
2,5-Dimethoxy-4-(n)-propylthiophenethylamine) (2C-T-7) (7348) | I
Marihuana (7360) | I
Tetrahydrocannabinols (7370) | I
Mescaline (7381) | I
2-(4-Ethylthio-2,5-dimethoxyphenyl) ethanamine (2C-T-2) (7385) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
JWH-398 (1-Pentyl-3-(4-chloro-1-naphthoyl)indole) (7398) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
5-Methoxy-N-N-dimethyltryptamine (7431) | I
Alpha-methyltryptamine (7432) | I
Diethyltryptamine (7434) | I
Dimethyltryptamine (7435) | I
Psilocybin (7437) | I
Psilocyn (7438) | I
5-Methoxy-N,N-diisopropyltryptamine (7439) | I
N-Benzylpiperazine (7493) | I
2-(2,5-Dimethoxy-4-methylphenyl)ethanamine (2C-D) (7508) | I
2-(2,5-Dimethoxy-4-ethylphenyl)ethanamine (2C-E) (7509) | I
2-(2,5-Dimethoxyphenyl)ethanamine (2C-H) (7517) | I
2-(4-Iodo-2,5-dimethoxyphenyl)ethanamine (2C-I) (7518) | I
2-(4-Chloro-2,5-dimethoxyphenyl)ethanamine (2C-C) (7519) | I
2-(2,5-Dimethoxy-4-nitro-phenyl)ethanamine (2C-N) (7521) | I
2-(2,5-Dimethoxy-4-(n)-propylphenyl)ethanamine (2C-P) (7524) | I
2-(4-Isopropylthio)-2,5-dimethoxyphenyl)ethanamine (2C-T-4) (7532) | I
MDPV (3,4-Methylenedioxypyrovalerone) (7535) | I
2-(4-bromo-2,5-dimethoxyphenyl)-N-(2-methoxybenzyl)ethanamine (25B-NBOMe) (7536) | I
2-(4-chloro-2,5-dimethoxyphenyl)-N-(2-methoxybenzyl)ethanamine (25C-NBOMe) (7537) | I
2-(4-iodo-2,5-dimethoxyphenyl)-N-(2-methoxybenzyl)ethanamine (25I-NBOMe) (7538) | I
Methylone (3,4-Methylenedioxy-N-methylcathinone) (7540) | I
Butylone (7541) | I
Pentylone (7542) | I
alpha-pyrrolidinopentiophenone (α-PVP) (7545) | I
alpha-pyrrolidinobutiophenone (α-PBP) (7546) | I
AM-694 (1-(5-Fluoropentyl)-3-(2-iodobenzoyl)indole) (7694) | I
Acetyldihydrocodeine (9051) | I
Benzylmorphine (9052) | I
Codeine-N-oxide (9053) | I
Desomorphine (9055) | I
Dihydromorphine (9145) | I
Heroin (9200) | I
Morphine-N-oxide (9307) | I
Normorphine (9313) | I
Tilidine (9750) | I
Acetyl Fentanyl (N-(1-phenethylpiperidin-4-yl)-N-phenylacetamide) (9821) | I
Amphetamine (1100) | II
Methamphetamine (1105) | II
Lisdexamfetamine (1205) | II
Methylphenidate (1724) | II
Amobarbital (2125) | II
Pentobarbital (2270) | II
Secobarbital (2315) | II
Phencyclidine (7471) | II
Phenylacetone (8501) | II
Cocaine (9041) | II
Codeine (9050) | II
Dihydrocodeine (9120) | II
Oxycodone (9143) | II
Hydromorphone (9150) | II
Ecgonine (9180) | II
Ethylmorphine (9190) | II
Hydrocodone (9193) | II
Levomethorphan (9210) | II
Levorphanol (9220) | II
Meperidine (9230) | II
Meperidine intermediate-B (9233) | II
Methadone (9250) | II
Dextropropoxyphene, bulk
(non-dosage forms) (9273) | II
Morphine (9300) | II
Thebaine (9333) | II
Oxymorphone (9652) | II
Sufentanil (9740) | II
Tapentadol (9780) | II
Fentanyl (9801) | II

The company plans to manufacture reference standards for distribution to their research and forensics customers.

In reference to drug codes 7360 (marihuana) and 7370 (tetrahydrocannabinols), the company plans to bulk manufacture these drugs as synthetic. No other activities for these drug codes are authorized for this registration.

Dated: February 16, 2016.
Louis J. Milione,
Deputy Assistant Administrator.

[FR Doc. 2016-03854 Filed 2-23-16; 8:45 am]

BILLING CODE 4410-09-P